Proclamation 7357 of October 6, 2000

Columbus Day, 2000

By the President of the United States of America

A Proclamation

During this first year of the new century, the American people have devoted time and thought to the people and events of our Nation's past so that we might better prepare for the challenges of the future. While Christopher Columbus' epic voyage took place almost three centuries before the founding of our democracy, his journey helped shape our national experience and offers important lessons as we chart our own course for the 21st century.

One of the most valuable of those lessons is the importance of sustaining our spirit of adventure, our willingness to explore new concepts and new horizons. Columbus, after careful study and planning, rejected the conventional thinking of his time, sailed for the open seas, and succeeded in opening up a New World for the people of Europe. Like Columbus, our founders rejected the familiar paths of the past and ventured boldly to create a new form of government that has profoundly shaped world history. Explorers, pioneers, inventors, artists, entrepreneurs—all have found a refuge in America and a chance to achieve their dreams.

Today we have other worlds to explore—from the deepest oceans to the outermost reaches of space to the genetic code of human life. The same adventurous spirit that propelled Columbus' explorations will enable us to challenge old assumptions, acquire new knowledge, and broaden the horizons of humankind.

Columbus' story illustrates the importance of diversity. Columbus was born and raised in Italy; he learned much of his seafaring knowledge and experience from Portuguese sailors and navigators; and he put those skills in service to the King and Queen of Spain, who funded his explorations. By establishing a safe, reliable route between Europe and the New World, Columbus opened the door for subsequent explorers from Spain, France, and England and for the millions of immigrants who would be welcomed by America in later centuries. But the encounters between Columbus and other European explorers and the native peoples of the Western Hemisphere also underscore what can happen when cultures clash and when we are unable to understand and respect people who are different from us.

While more than 500 years have passed since Christopher Columbus first sailed to these shores, the lessons of his voyage are still with us. Brave, determined, open to new ideas and new experiences, in many ways he foreshadowed the character of the American people who honor him today.

In tribute to Columbus' many achievements, the Congress, by joint resolution of April 30, 1934 (48 Stat. 657), and an Act of June 28, 1968 (82 Stat. 250), has requested the President to proclaim the second Monday in October of each year as “Columbus Day.”

NOW, THEREFORE, I, WILLIAM J. CLINTON, President of the United States of America, do hereby proclaim October 9, 2000, as Columbus Day. I call upon the people of the United States to observe this day with appropriate ceremonies and activities. I also direct that the flag of the United States be displayed on all public buildings on the appointed day in honor of Christopher Columbus.

IN WITNESS WHEREOF, I have hereunto set my hand this sixth day of October, in the year of our Lord two thousand, and of the Independence of the United States of America the two hundred and twenty-fifth.

wj

[FR Doc. 00-26395

Filed 10-11-00; 8:45 am]

Billing code 3195-01-P